DEPARTMENT OF THE INTERIOR

Bureau of Land Management

[AZ-050-00-1232-PA-AZ11; 8371]

Arizona: Fee Demonstration Pilot Program Supplementary Rules; Yuma, Maricopa, and La Paz Counties, Arizona, and Imperial County, CA

AGENCY: Bureau of Land Management, Interior

ACTION: Establish supplementary rules governing public occupancy, use, and conduct in areas designated by, and included in, the national Fee Demonstration Pilot Program.

SUMMARY: The Bureau of Land Management (BLM) Yuma Field Office is responsible for administering 1.7 million acres within southwestern Arizona and southeastern California. Recreational use accounts for several million visitor-days annually. This concentration of visitor use results in significant resource damage, social conflicts, and threats to visitor safety. In addition to the regulations which apply to all public lands, the following supplementary rules will apply to the designated fee sites within the Fee Demonstration Project Area, as listed below, and are designed to provide for public safety and welfare and to protect natural resources. The recreation sites that have been designated under the national Fee Demonstration Pilot Program, and for which these rules apply are Betty's Kitchen Watchable Wildlife and Interpretive Area, Squaw Lake Campground, Senator Wash Reservoir North Shore, Senator Wash Reservoir South Shore, Senator Wash Reservoir Boat Ramp and Day-Use area, Imperial Dam Long-Term Visitor Area, Oxbow Campground, Ehrenberg Sandbowl Off-Highway Vehicle Area, and the La Posa Long-Term Visitor Area. These rules will apply to the above identified sites and to any additional recreation sites that are formally added to the national Fee Demonstration Pilot Program.

Section 1: Definitions

Disorderly Conduct: A person commits disorderly conduct when his or her actions disturb the public peace, offends public morals, or undermines safety.

Fee Demonstration Project Area (FDPA): all lands owned by the United States and administrated by the Bureau of Land Management, Yuma Field Office that are designated and included in the National Fee Demonstration Pilot Program.

Fee Use Areas: any designated and posted area within the FDPA which requires a fee or payment for use.

Firearms: any loaded or unloaded pistol, rifle, shotgun, or other weapon which is designed to, or may be readily converted to expel a projectile by the ignition of a propellant, spring, or compressed air.

Hunting: taking or attempting to take wildlife.

Occupancy: the erecting of a tent or shelter of natural or synthetic material, preparing a sleeping bag, or other bedding material for use; or parking a motor vehicle, motor home, or trailer.

Operator: a person who operates, drives, controls, or otherwise has charge of a motor vehicle or any other mechanical equipment.

Per Day: a calendar day which starts at 12 midnight and ends at 11:59 p.m. or on the 24 hour clock starting at 0000 hours and ending at 2359 hours.

Permit: a self-service fee envelop, form, window sticker, or written authorization from the Bureau of Land Management for the occupancy and/or use of the Fee Use Areas where use is otherwise prohibited, restricted, or regulated.

Person: an individual, firm, corporation, society, association, partnership, or private or public body.

Pet: any animal under human care.

Possession: exercising direct physical control or dominion, with or without ownership, over property.

Registered Owner: the person identified by the relevant state authority as being the individual to whom the motor vehicle is registered.

Vehicle: any motorized vehicle capable of or designed for travel on or immediately over land or roadways, whether or not the vehicle is registered.

Weapon: a firearm, compressed gas or spring-powered pistol or rifle, bow and arrow, crossbow, blowgun, sling shot explosive devise, or any other implement designed to discharge projectiles; also nu-chucks, clubs, and any device modified as a striking instrument.

Section 2: Permits

(a) Fee Use Permits must be purchased immediately upon entry. Fees must be pre-paid for each day of use of occupancy.

(b) Fee Use Permits must be displayed in a clearly visible manner in the front windshield of the vehicle, with all required information completed in order to be valid.

(c) An authorized Bureau of Land Management (BLM) officer may revoke without reimbursement any Fee Use Permit when the conduct of the permittee, permittee's family, or guests does not comply with the rules for use of that area or is inconsistent with the goals of BLM's Fee Use Permit program.

(d) Failure to comply with all terms and conditions of the permit may result in the revocation of the Fee Use Permit and/or issuance of a criminal citation.

(e) The operator of a vehicle is responsible for compliance with all requirements of the permit. In the absence of the operator, the registered owner of record is then responsible for compliance with all permit requirements.

(f) Permits issued from any area other than the Yuma Field Office are not valid for occupancy or use in Fee Use Areas administered by the Yuma Field Office.

Section 3: Public Use and Recreation

3.1 Firearms, Fireworks and Weapons

The following are prohibited in a Fee Use area.

(a) Possessing or using fireworks, explosives, or blasting agents within the Fee Use Areas, unless otherwise approved by an authorized BLM officer.

(b) Displaying, brandishing, or discharging of a firearm within the Fee Use Areas.

3.2 Pets

This section does not apply to dogs used by authorized Federal, State, or local law enforcement officers in the performance of their duties.

The following are prohibited in a Fee Use area:

(a) Allowing a pet to make noise that is unreasonable when considering the location, time of day or night, and the impact on public land users, or after designated quiet hours.

(b) Failure to remove waste deposited by a pet at any location within developed sites including campgrounds, picnic areas, parking areas, and visitor centers.

(c) Allowing a pet, other than a seeing-eye dog, hearing-ear dog, or other animal specifically trained to assist a handicapped person, to enter any building or any designated swimming area operated by the Bureau of Land Management.

(d) Leaving a pet unattended without adequate food, water, or shelter for any period of time.

(e) Failing to maintain a dog under physical restraint at all times, on a tether or leash no longer than six (6) feet in length.

3.3 Alcoholic Beverages

The use and possession of alcoholic beverages within the Fee Use Areas is permitted in accordance with the provisions of this section.

The following are prohibited in a Fee Use area:

(a) Leaving alcoholic beverages unattended and in plain view within a campsite.

(b) Selling or giving an alcoholic beverage to a person under 21 years of age.

(c) The presence by a person in the Fee Use Areas who is under the influence of alcohol or a controlled substance to a degree that may endanger oneself or another person and who causes any disturbance, or damages property or public land resources.

3.4 Disorderly Conduct

The following are prohibited in a Fee Use area:

(a) Committing any disorderly conduct (see Definitions above).

(b) Engaging in fighting, threatening, or violent behavior.

(c) Using language, utterances, gestures, or engaging in a display or act that is obscene, physically threatening or menacing, or done in a manner that is likely to inflict physical, mental, or emotional injury.

(d) Breaching the peace in any manner which is disruptive or interferes with other public lands users;

3.5 Occupancy

The Fee Use Area permittee is responsible for maintaining his/her campsite in a neat, orderly, and sanitary condition.

The following are prohibited in a Fee Use area:

(a) Failing to maintain a campsite free of trash, garbage, or waste on the ground.

(b) Digging, draining, digging a ditch, or leveling the ground at a campsite.

(c) Clearing, cutting, or damaging vegetation to enhance your campsite.

(d) Collecting wood or other plant materials for use in a campfire or for any other purpose.

(e) Failing to obtain a Fee Use Permit immediately upon entry or occupancy of any site within the Fee Use Area without first obtaining a permit.

(f) Violating the terms or conditions of any Fee Use Permit.

(g) Creating or sustaining unreasonable noise between the hours of 10:00 p.m. and 6:00 a.m.

(h) Possessing or using glass beverage containers is prohibited within 500 feet of any waterway or swimming area.

(i) Using paint, markers, or spray paint within any Fee Use Area except by authorized officials.

(j) Possessing paint, markers, or spray paint within the Fee Use Area except when such containers are located in the trunk of a motor vehicle or some other portion of the motor vehicle which is not readily accessible to the operator or passengers.

3.6 State Laws Applicable

Unless specifically addressed by regulations set forth in 43 CFR, it is violation of this supplementary rule to violate any law or provision of State law.

EFFECTIVE DATE: These supplemental rules become effective May 31, 2000.

FOR FURTHER INFORMATION CONTACT: Mark Lowans, Outdoor Recreation Planner, Yuma Field Office, 2555 E. Gila Ridge Road, Yuma, AZ 85365; (520) 317-3200.

SUPPLEMENTARY INFORMATION: The authority for establishing supplementary rules is contained in 43 CFR 8365.1-6. These rules will be available in the local office having jurisdiction over the lands, sites, or facilities affected. Violations of these supplementary rules are punishable by a fine not to exceed $100,000 and/or imprisonment not to exceed 12 months.

Dated: May 19, 2000.
Gail Acheson,
Field Manager.

[FR Doc. 00-13545 Filed 5-30-00; 8:45 am]

BILLING CODE 4310-32-M